DEPARTMENT OF ENERGY

[Case Number 2019-008; EERE-2019-BT-WAV-0023]

Energy Conservation Program: Notice of Petition for Waiver of LG Electronics U.S.A., Inc. From the Department of Energy Central Air Conditioners and Heat Pumps Test Procedure and Notice of Grant of Interim Waiver

AGENCY: Office of Energy Efficiency and Renewable Energy, Department of Energy.

ACTION: Notice of petition for waiver and grant of an interim waiver; request for comments.

SUMMARY: This notice announces receipt of and publishes a petition for waiver and interim waiver from LG Electronics U.S.A., Inc. (“LGE”), which seeks a waiver from the U.S. Department of Energy (“DOE”) test procedure used for determining the efficiency of specified central air conditioner (“CAC”) and heat pump (“HP”) basic models. DOE also gives notice of an Interim Waiver Order that requires LGE to test and rate specified CAC and HP basic models in accordance with the alternate test procedure set forth in the Interim Waiver Order. DOE solicits comments, data, and information concerning LGE's petition and its suggested alternate test procedure so as to inform DOE's final decision on LGE's waiver request.

DATES: The Interim Waiver Order is effective on July 6, 2020. Written comments and information will be accepted on or before August 5, 2020.

ADDRESSES: Interested persons are encouraged to submit comments using the Federal eRulemaking Portal at http://www.regulations.gov. Alternatively, interested persons may submit comments, identified by case number “2019-008”, and Docket number “EERE-2019-BT-WAV-0023,” by any of the following methods:

• Federal eRulemaking Portal: http://www.regulations.gov. Follow the instructions for submitting comments.

• Email: LG2019WAV0023@ee.doe.gov. Include case number, 2019-008, in the subject line of the message.

• Postal Mail: Appliance and Equipment Standards Program, U.S. Department of Energy, Office of Energy Efficiency and Renewable Energy, Building Technologies Office, Mailstop EE-5B, Petition for Waiver Case No. 2019-008, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, 6th Floor, Washington, DC 20024. If possible, please submit all items on a “CD”, in which case it is not necessary to include printed copies.

No telefacsimilies (faxes) will be accepted. For detailed instructions on submitting comments and additional information on this process, see the SUPPLEMENTARY INFORMATION section of this document.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found http://www.regulations.gov/docket?D=EERE-2019-BT-WAV-0023. The docket web page contains instruction on how to access all documents, including public comments, in the docket. See the SUPPLEMENTARY INFORMATION section for information on how to submit comments through http://www.regulations.gov.

FOR FURTHER INFORMATION CONTACT:

Ms. Lucy deButts, U.S. Department of Energy, Office of Energy Efficiency and Renewable Energy, Building Technologies Office, Mailstop EE-5B, 1000 Independence Avenue SW, Washington, DC 20585-0121. Email: AS_Waiver_Request@ee.doe.gov.

Mr. Pete Cochran, U.S. Department of Energy, Office of the General Counsel, Mail Stop GC-33, Forrestal Building, 1000 Independence Avenue SW, Washington, DC 20585-0103. Telephone: (202) 586-9496. Email: Peter.Cochran@hq.doe.gov.

SUPPLEMENTARY INFORMATION: DOE is publishing LGE's petition for waiver in its entirety, pursuant to 10 CFR 430.27(b)(1)(iv), absent any confidential business information. DOE invites all interested parties to submit in writing by August 5, 2020, comments and information on all aspects of the petition, including the alternate test procedure. Pursuant to 10 CFR 430.27(d), any person submitting written comments to DOE must also send a copy of such comments to the petitioner. The contact information for the petitioner is Jean-Cyril Walker, walker@khlaw.com, Keller and Heckman LLP, 1001 G Street NW, Suite 500 West, Washington, DC 20001.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: one copy of the document marked confidential including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on June 26, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 30, 2020.
Treena V. Garrett,
Federal Register Liaison Officer,U.S. Department of Energy.

Case Number 2019-008

Interim Waiver Order

I. Background and Authority

The Energy Policy and Conservation Act, as amended (“EPCA”),¹ among other things, authorizes the U.S. Department of Energy (“DOE”) to regulate the energy efficiency of a number of consumer products and industrial equipment. (42 U.S.C. 6291-6317) Title III, Part B ² of EPCA established the Energy Conservation Program for Consumer Products Other Than Automobiles, which sets forth a variety of provisions designed to improve energy efficiency for certain types of consumer products. These products include central air conditioners and central air conditioning heat pumps (CACs and HPs), the subject of this Interim Waiver Order. (42 U.S.C. 6292(a)(3))

¹ All references to EPCA in this document refer to the statute as amended through America's Water Infrastructure Act of 2018, Public Law 115-270 (October 23, 2018).

² For editorial reasons, upon codification in the U.S. Code, Part B was redesignated as Part A.

Under EPCA, DOE's energy conservation program consists essentially of four parts: (1) Testing, (2) labeling, (3) Federal energy conservation standards, and (4) certification and enforcement procedures. Relevant provisions of EPCA include definitions (42 U.S.C. 6291), energy conservation standards (42 U.S.C. 6295), test procedures (42 U.S.C. 6293), labeling provisions (42 U.S.C. 6294), and the authority to require information and reports from manufacturers (42 U.S.C. 6296).

The Federal testing requirements consist of test procedures that manufacturers of covered products must use as the basis for: (1) Certifying to DOE that their products comply with the applicable energy conservation standards adopted pursuant to EPCA (42 U.S.C. 6295(s)), and (2) making representations about the efficiency of that product (42 U.S.C. 6293(c)). Similarly, DOE must use these test procedures to determine whether the product complies with relevant standards promulgated under EPCA. (42 U.S.C. 6295(s))

Under 42 U.S.C. 6293, EPCA sets forth the criteria and procedures DOE is required to follow when prescribing or amending test procedures for covered products. EPCA requires that any test procedures prescribed or amended under this section must be reasonably designed to produce test results which reflect the energy efficiency, energy use or estimated annual operating cost of a covered product during a representative average use cycle or period of use and requires that test procedures not be unduly burdensome to conduct. (42 U.S.C. 6293(b)(3)) The test procedure for CACs and HPs is contained in the Code of Federal Regulations (“CFR”) at 10 CFR part 430, subpart B, appendix M, Uniform Test Method for Measuring the Energy Consumption of Central Air Conditioners and Heat Pumps (referred to in this Interim Waiver Order as “appendix M”).

Under 10 CFR 430.27, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. See 10 CFR 430.27(f)(2). A petitioner must include in its petition any alternate test procedures known to the petitioner to evaluate the performance of the product type in a manner representative of the energy consumption characteristics of the basic model. See 10 CFR 430.27(b)(1)(iii). DOE may grant the waiver subject to conditions, including adherence to alternate test procedures. See 10 CFR 430.27(f)(2).

As soon as practicable after the granting of any waiver, DOE will publish in the Federal Register a notice of proposed rulemaking to amend its regulations so as to eliminate any need for the continuation of such waiver. See 10 CFR 430.27(l). As soon thereafter as practicable, DOE will publish in the Federal Register a final rule. Id.

The waiver process also provides that DOE may grant an interim waiver if it appears likely that the underlying petition for waiver will be granted and/or if DOE determines that it would be desirable for public policy reasons to grant immediate relief pending a determination on the underlying petition for waiver. See 10 CFR 430.27(e)(2). Within one year of issuance of an interim waiver, DOE will either: (i) Publish in the Federal Register a determination on the petition for waiver; or (ii) publish in the Federal Register a new or amended test procedure that addresses the issues presented in the waiver. See 10 CFR 430.27(h)(1).

When DOE amends the test procedure to address the issues presented in a waiver, the waiver will automatically terminate on the date on which use of that test procedure is required to demonstrate compliance. See 10 CFR 430.27(h)(2).

II. LGE's Petition for Waiver and Interim Waiver

On September 5, 2019, LGE filed a petition for waiver and interim waiver from the test procedure for CACs and HPs set forth at appendix M. According to LGE, appendix M does not include provisions for determining cooling intermediate air volume rate, cooling minimum air volume rate, and heating intermediate air volume rate for the variable-speed coil-only single-split systems specified in its petition. LGE asserts that although the CAC and HP test procedure at appendix M provides for testing of variable-speed systems, it does not contemplate the variation presented by systems comprised of LGE's variable-speed coil-only single-split systems. LGE notes that DOE previously granted waivers to GD Midea Heating & Ventilating Equipment Co., Ltd. (“GD Midea”) and TCL air conditioner (zhongshan) Co. Ltd. (“TCL AC”), for systems that contain variable-speed outdoor units that are non-communicative systems for which compressor speed varies based only on controls located on the outdoor unit that is paired with an indoor unit that maintains a constant indoor blower fan speed. 83 FR 56065 and 84 FR 11941. LGE asserts that testing the variable-speed coil-only single-split systems specified in its petition pursuant to the current appendix M procedure does not yield results that are representative of the systems' true energy consumption characteristics.

LGE also requests an interim waiver from the existing DOE test procedure for the same reasons set forth by GD Midea and TCL AC. DOE will grant an interim waiver if it appears likely that the petition for waiver will be granted, and/or if DOE determines that it would be desirable for public policy reasons to grant immediate relief pending a determination of the petition for waiver. See 10 CFR 430.27(e)(2).

III. Requested Alternate Test Procedure

EPCA requires that manufacturers use DOE test procedures when making representations about the energy consumption and energy consumption costs of covered products. (42 U.S.C. 6293(c)) Consistent representations are important when making representations about the energy efficiency of products, including when demonstrating compliance with applicable DOE energy conservation standards. Pursuant to its regulations at 10 CFR 430.27, and after consideration of public comments on the petition, DOE may establish in a subsequent Decision and Order an alternate test procedure for the basic models addressed by the interim waiver.

As noted, DOE has granted to GD Midea and TCL AC waivers from the DOE CAC and HP test procedure for variable-speed coil-only single-split systems, subject to use of an alternate test procedure. 84 FR 11941 and 83 FR 56065. In its petition, LGE requests that it be allowed to use the same alternate test procedure as that granted to GD Midea and TCL AC. That is, LGE requests that the specified basic models listed in the petition be tested according to the test procedure for CACs and HPs prescribed by DOE at appendix M, except that, as described below, the cooling full-load air volume rate would also be used as the cooling intermediate and cooling minimum air volume rates, and the heating full-load air volume rate would also be used as the heating intermediate air volume rate.

IV. Interim Waiver Order

DOE has reviewed LGE's application for an interim waiver, the alternate test procedure requested by LGE, and the additional materials LGE provided in support of its petition. Based on this review, the alternate test procedure appears to allow for the accurate measurement of the of efficiency of the products specified in LGE's petition, while alleviating the testing problems associated with the six basic models specified in its petition. Consequently, it appears likely that LGE's petition for waiver will be granted. Furthermore, DOE has determined that it is desirable for public policy reasons to grant LGE immediate relief pending a determination of the petition for waiver.

For the reasons stated, it is ordered that:

(1) LGE must test and rate the central air conditioner and heat pump (“CAC and HP”) basic models LUU189HV, LUU249HV, LUU369HV, LUU429HV, LUU488HV, and LUU489HV, which are comprised of the individual combinations listed below,³ using the alternate test procedure set forth in paragraph (2).

³ The specified basic models contain individual combinations that each consist of an outdoor unit that uses a variable speed compressor matched with a coil-only indoor unit.

Basic model No. | Brand | Outdoor unit | Coil-only indoor unit
LUU189HV | LG Electronics U.S.A., Inc. | LUU189HV | LG-C1-24-14L
| LG Electronics U.S.A., Inc. | LUU189HV | LG-C1-24-14R
| LG Electronics U.S.A., Inc. | LUU189HV | LG-C1-24-17L
| LG Electronics U.S.A., Inc. | LUU189HV | LG-C1-24-17R
| LG Electronics U.S.A., Inc. | LUU189HV | LG-A1-24-14L
| LG Electronics U.S.A., Inc. | LUU189HV | LG-A1-24-14R
| LG Electronics U.S.A., Inc. | LUU189HV | LG-A1-24-17L
| LG Electronics U.S.A., Inc. | LUU189HV | LG-A1-24-17R
LUU249HV | LG Electronics U.S.A., Inc. | LUU249HV | LG-C1-24-14L
| LG Electronics U.S.A., Inc. | LUU249HV | LG-C1-24-14R
| LG Electronics U.S.A., Inc. | LUU249HV | LG-C1-36-17L
| LG Electronics U.S.A., Inc. | LUU249HV | LG-C1-36-17R
| LG Electronics U.S.A., Inc. | LUU249HV | LG-A1-24-14L
| LG Electronics U.S.A., Inc. | LUU249HV | LG-A1-24-14R
| LG Electronics U.S.A., Inc. | LUU249HV | LG-A1-36-17L
| LG Electronics U.S.A., Inc. | LUU249HV | LG-A1-36-17R
LUU369HV | LG Electronics U.S.A., Inc. | LUU369HV | LG-C2-36-14L
| LG Electronics U.S.A., Inc. | LUU369HV | LG-C2-36-14R
| LG Electronics U.S.A., Inc. | LUU369HV | LG-C1-36-17L
| LG Electronics U.S.A., Inc. | LUU369HV | LG-C1-36-17R
| LG Electronics U.S.A., Inc. | LUU369HV | LG-A2-36-14L
| LG Electronics U.S.A., Inc. | LUU369HV | LG-A2-36-14R
| LG Electronics U.S.A., Inc. | LUU369HV | LG-A1-36-17L
| LG Electronics U.S.A., Inc. | LUU369HV | LG-A1-36-17R
LUU429HV | LG Electronics U.S.A., Inc. | LUU429HV | LG-C2-48-17L
| LG Electronics U.S.A., Inc. | LUU429HV | LG-C2-48-17R
| LG Electronics U.S.A., Inc. | LUU429HV | LG-C2-48-21L
| LG Electronics U.S.A., Inc. | LUU429HV | LG-C2-48-21R
| LG Electronics U.S.A., Inc. | LUU429HV | LG-A2-48-17L
| LG Electronics U.S.A., Inc. | LUU429HV | LG-A2-48-17R
| LG Electronics U.S.A., Inc. | LUU429HV | LG-A2-48-21L
| LG Electronics U.S.A., Inc. | LUU429HV | LG-A2-48-21R
LUU488HV | LG Electronics U.S.A., Inc. | LUU488HV | LG-C2-48-17L
| LG Electronics U.S.A., Inc. | LUU488HV | LG-C2-48-17R
| LG Electronics U.S.A., Inc. | LUU488HV | LG-C2-48-21L
| LG Electronics U.S.A., Inc. | LUU488HV | LG-C2-48-21R
| LG Electronics U.S.A., Inc. | LUU488HV | LG-A2-48-17L
| LG Electronics U.S.A., Inc. | LUU488HV | LG-A2-48-17R
| LG Electronics U.S.A., Inc. | LUU488HV | LG-A2-48-21L
| LG Electronics U.S.A., Inc. | LUU488HV | LG-A2-48-21R
LUU489HV | LG Electronics U.S.A., Inc. | LUU489HV | LG-C2-48-17L
| LG Electronics U.S.A., Inc. | LUU489HV | LG-C2-48-17R
| LG Electronics U.S.A., Inc. | LUU489HV | LG-C2-48-21L
| LG Electronics U.S.A., Inc. | LUU489HV | LG-C2-48-21R
| LG Electronics U.S.A., Inc. | LUU489HV | LG-A2-48-17L
| LG Electronics U.S.A., Inc. | LUU489HV | LG-A2-48-17R
| LG Electronics U.S.A., Inc. | LUU489HV | LG-A2-48-21L
| LG Electronics U.S.A., Inc. | LUU489HV | LG-A2-48-21R

(2) The alternate test procedure for the LGE basic models identified in paragraph (1) of this Interim Waiver Order is the test procedure for CACs and HPs prescribed by DOE at 10 CFR part 430, subpart B, appendix M (“appendix M”), except that as described below, for coil-only combinations: the cooling full-load air volume rate as determined in section 3.1.4.1.1.c of appendix M shall also be used as the cooling intermediate and cooling minimum air volume rates, and the heating full-load air volume rate as determined in section 3.1.4.4.1.a of appendix M shall also be used as the heating intermediate air volume rate. All other requirements of appendix M and DOE's regulations remain applicable.

In 3.1.4.2, Cooling Minimum Air Volume Rate, include:

f. For ducted variable-speed compressor systems tested with a coil-only indoor unit, the cooling minimum air volume rate is the same as the cooling full-load air volume rate determined in section 3.1.4.1.1.c.

In 3.1.4.3, Cooling Intermediate Air Volume Rate, include:

d. For ducted variable-speed compressor systems tested with a coil-only indoor unit, the cooling intermediate air volume rate is the same as the cooling full-load air volume rate determined in section 3.1.4.1.1.c.

In 3.1.4.6, Heating Intermediate Air Volume Rate, include:

d. For ducted variable-speed compressor systems tested with a coil-only indoor unit, the heating intermediate air volume rate is the same as the heating full-load air volume rate determined in section 3.1.4.4.1.a.

(3) Representations. LGE may not make representations about the efficiency of the basic models identified in paragraph (1) of this Interim Waiver Order for compliance, marketing, or other purposes unless the basic model has been tested in accordance with the provisions set forth above and such representations fairly disclose the results of such testing.

(4) This Interim Waiver Order shall remain in effect according to the provisions of 10 CFR 430.27.

(5) This Interim Waiver Order is issued on the condition that the statements, representations, test data, and documentary materials provided by LGE are valid. If LGE makes any modifications to the controls or configurations of these basic models, the Interim Waiver Order will no longer be valid and LGE will either be required to use the current Federal test method or submit a new application for a test procedure interim waiver. DOE may rescind or modify this Interim Waiver Order at any time if it determines the factual basis underlying the petition for Interim Waiver Order is incorrect, or the results from the alternate test procedure are unrepresentative of a basic models' true energy consumption characteristics. See 10 CFR 430.27(k)(1). Likewise, LGE may request that DOE rescind or modify the Interim Waiver Order if LGE discovers an error in the information provided to DOE as part of its petition, determines that the Interim Waiver Order is no longer needed, or for other appropriate reasons. See 10 CFR 430.27(k)(2).

(6) Issuance of this Interim Waiver Order does not release LGE from the certification requirements set forth at 10 CFR part 429.

DOE makes decisions on waivers and interim waivers for only those basic models specifically set out in the petition, not future models that may be manufactured by the petitioner. LGE may submit a new or amended petition for waiver and request for grant of interim waiver, as appropriate, for additional basic models of CACs and HPs. Alternatively, if appropriate, LGE may request that DOE extend the scope of a waiver or an interim waiver to include additional basic models employing the same technology as the basic model(s) set forth in the original petition consistent with 10 CFR 430.27(g).

Signed in Washington, DC, on June 26, 2020.

Alexander N. Fitzsimmons,

Deputy Assistant Secretary for Energy Efficiency, Energy Efficiency and Renewable Energy.

BILLING CODE 6450-01-P

BILLING CODE 6450-01-C

Exhibit 1

LGE Notification List

Table 1—Affected Company Notification List
Company | Representative contact
Aaon, Inc. | alexf@aaon.com
Advanced Distributor Products, LLC | greg.goetzinger@adpnow.com
Allied Air Enterprises, LLC | Jennifer.george@alliedair.com
AllStyle Coil Company, LP | justinm@allstyle.com
Amana Company, LP | Pete.alexander@goodmanmfg.com
Aspen Manufacturing, LLC | Jason.Makowski@aspenmfg.com
AUX Air Conditioner Co., Ltd. | Kangyuqin@auxgroup.com
Carrier Corporation | Matthew.P.Gunn@carrier.utc.com
Daikin Applied Americas Inc. | thanh.bui@goodmanmfg.com
Daikin North America | shinichi.nakaishi@goodmanmfg.com
ECOER Inc. | yeson@ecoer.com
Enviromaster International LLC | davdre@ecrinternational.com
First Co. | gwright@firstco.com
Friedrich Air Conditioning, LLC | pkendrick@friedrich.com
Fujitsu General America, Inc. | athrudekoos@fujitsugeneral.com
GD Midea Air-Conditioning Equipment Co., Ltd. | zhaoxh1@midea.com.cn
GD Midea Heating & Ventilating Equipment Co., Ltd. | yangss@midea.com
Goodman Manufacturing Company, L.P. dba Daikin Manufacturing Company, L.P. and Goodman Company, L.P. dba Daikin Company, L.P | thanh.bui@goodmanmfg.com; james.kistler@goodmanmfg.com
Gree Electric Appliances, Inc. of Zhuhai | gree.certification@cn.gree.com
Guangdong Chigo Air-conditioning Co., Ltd | adyzang@126.com
Guangdong Chigo Heating & Ventilation Equipment Co., Ltd | zhujianen@chigo-cac.com
Haier US Appliance Solutions, Inc., dba GE Appliances, a Haier Company | yhu@haieramerica.com
Hisense (Guangdong) Air Conditioning Co., Ltd. | luoguojian@hisense.com
Ingersoll Rand Company | jim.vershaw@irco.com
Johnson Controls, Inc. | jessie.a.bell@jci.com
Lennox Industries, Inc. | todd.mcintosh@lennoxind.com
Mitsubishi Electric Cooling & Heating | pdoppel@hvac.mea.com
Mortex Products, Inc. dba Summit Manufacturing | gpatterson@mortx.com
National Comfort Products | KFordJr@nrac.com
Nortek Global HVAC LLC | Matt.lattanzi@nortek.com
Panasonic Corporation of North America | hiroaki.tanaka@us.panasonic.com
Petra Engineering Industries Co. | m-bahaa@petra-eng.com.jo
Qingdao Haier Air Conditioner General Co., Ltd. | liuxuefeng@haier.com
Refrigeration Industries Company | edmundo.gabriel@ric.com.kw
Rheem Sales Company, Inc. | scott.creamer@rheem.com
Samsung Electronics Co., Ltd. | ck.kolandayan@samsunghvac.com
Sharp Electronics Corporation | tpruitt@sharpsec.com
SpacePak, A Mestek Company | glenz@mestek.com
Summit Manufacturing, Inc. | tsmall@mortx.com
TCL Air Conditioner (ZhongShan) Co., Ltd. | kt_zhengkai@tcl.com
Texas Furnace, LLC | acanales@allstyle.com
Unico, Inc. | craig@unicosystem.com
Villara Corporation | radcliffb@villara.com
Wolf Steel Ltd | WBesada@napoleonproducts.com
Zamil Air Conditioners & Home Appliances Co. (L.L.C.) | sirajuddinm@zamilac.com

[FR Doc. 2020-14402 Filed 7-2-20; 8:45 am]

BILLING CODE 6450-01-P